OFFICE OF PERSONNEL MANAGEMENT

5 CFR Parts 315 and 316

RIN 3206-AL29

Disabled Veterans Documentation

AGENCY: U.S. Office of Personnel Management.

ACTION: Final rule.

SUMMARY: The U.S. Office of Personnel Management (OPM) is issuing final regulations regarding documentation required for appointments of disabled veterans. The purpose of this change is to provide consistency with the policy implemented by the Department of Veterans Affairs.

DATES: Effective Date: November 13, 2008.

FOR FURTHER INFORMATION CONTACT: Darlene Phelps at (202) 606-0960, by FAX on (202) 606-2329, TDD at (202) 418-3134, or by e-mail at Darlene.Phelps@opm.gov.

SUPPLEMENTARY INFORMATION: On August 20, 2007, OPM proposed regulations at 72 FR 46410 regarding documentation required for noncompetitive temporary and term appointments, and conversion of 30 percent or more disabled veterans from nonpermanent appointments. The Department of Veterans Affairs (VA) considers any VA disability letter issued for purposes of establishing veterans' preference in employment proof of a permanent record of disability, unless the letter specifically states otherwise. We proposed to modify sections 315.707(a)(2)(ii) and (iii), 316.302(b)(4), and 316.402(b)(4) of title 5, Code of Federal Regulations. In addition, in section 315.707(a)(2)(ii) and (iii), we are adding a reference to disability determinations from a branch of the Armed Forces, as these entities may also certify the existence of 30 percent or more disability. These modifications will clarify that a 30 percent or more disabled veteran who has proof of disability from the VA or a branch of the Armed Forces dated 1991 or later is eligible for a noncompetitive temporary or term appointment. The employee may be noncompetitively converted to a permanent appointment in the competitive service at any time during such an appointment. Lastly, we are adding the word “so” in section 315.707(a)(2)(iii) to clarify that “rated” refers to a service-connected disability rating of 30 percent or more. We inadvertently omitted this clarification in the proposed regulation.

Comments

Comments on the proposed rule were requested by October 19, 2007. OPM received one comment from a private citizen who noticed a typographical error in sections 316.302(b)(4) and 316.402(b)(4). We have corrected this error by changing “of” to “or” the third time it appears in each of those paragraphs.

E.O. 12866, Regulatory Review

This rule has been reviewed by the Office of Management and Budget in accordance with Executive Order 12866.

Regulatory Flexibility Act

I certify that this regulation will not have a significant economic impact on a substantial number of small entities because it will apply only to Federal agencies and employees.

Paperwork Reduction Act

The information collection requirements contained in this final rule are currently approved by OMB under 3206-0001. This final regulation does not modify this approved collection.

List of Subjects in 5 CFR Parts 315 and 316

Government employees.

U.S. Office of Personnel Management.
Michael W. Hager,
Acting Director.

Accordingly, OPM is amending 5 CFR parts 315 and 316 as follows:

PART 315—CAREER AND CAREER CONDITIONAL EMPLOYMENT

1. The authority citation for part 315 continues to read as follows:

Authority: 5 U.S.C. 1302, 3301, and 3302; E.O. 10577, 3 CFR, 1954-1958 Comp. p. 218, unless otherwise noted; and E.O. 13162. Secs. 315.601 and 315.609 also issued under 22 U.S.C. 3651 and 3652. Secs. 315.602 and 315.604 also issued under 5 U.S.C. 1104. Sec. 315.603 also issued under 5 U.S.C. 8151. Section 315.605 also issued under E.O. 12034, 3 CFR, 1978 Comp. p. 111. Section 315.606 also issued under E.O. 11219, 3 CFR, 1964-1965 Comp. p. 303. Sec 315.607 also issued under 22 U.S.C. 2506. Sec. 315.608 also issued under E.O. 12721, 3 CFR, 1990 Comp. p. 293. Sec. 315.610 also issued under 5 U.S.C. 3304(d). Sec. 315.611 also issued under Section 511, Pub. L. 106-117, 113 Stat. 1575-76. Sec. 315.708 also issued under E.O. 13318. Sec. 315.710 also issued under E.O. 12596, 3 CFR, 1987 Comp. p. 229. Subpart I also issued under 5 U.S.C. 3321, E.O. 12107, 3 CFR, 1978 Comp. p. 264.

Subpart G—Conversion to Career or Career-Conditional Employment From Other Types of Employment

2. In 315.707, revise paragraphs (a)(2)(ii) and (iii) to read as follows:

§ 315.707 Disabled veterans.

(a) * * *

(2) * * *

(ii) Have been rated by the Department of Veterans Affairs since 1991 or later, or by a branch of the Armed Forces at any time, as having a compensable service-connected disability of 30 percent or more; or

(iii) Have been so rated by the Department of Veterans Affairs, or by a branch of the Armed Forces, at the time of a qualifying temporary appointment effected within the year immediately preceding, or a term appointment effected within four years immediately preceding, the conversion.

* * * * *

PART 316—TEMPORARY AND TERM EMPLOYMENT

3. The authority citation for part 316 continues to read as follows:

Authority: 5 U.S.C. 3301, 3302; E.O. 10577, 3 CFR, 1954-1958 Comp., p. 218.

Subpart C—Term Employment

4. In 316.302, revise paragraph (b)(4) to read as follows:

§ 316.302 Selection of term employees.

* * * * *

(b) * * *

(4) Appointment under 5 U.S.C. 3112 (veterans with compensable service-connected disability of 30 percent or more). The disability must be documented by a notice of retirement or discharge due to service-connected disability from active military service dated at any time, or by a notice of compensable disability rating from the Department of Veterans Affairs, dated 1991 or later;

* * * * *

Subpart D—Temporary Limited Employment

5. In 316.402, revise paragraph (b)(4) to read as follows:

§ 316.402 Procedures for making temporary appointments.

* * * * *

(b) * * *

(4) Appointment under 5 U.S.C. 3112 (veterans with compensable service-connected disability of 30 percent of more). The disability must be documented by a notice of retirement or discharge due to service-connected disability from active military service dated at any time, or by a notice of compensable disability rating from the Department of Veterans Affairs, dated 1991 or later;

* * * * *

[FR Doc. E8-24227 Filed 10-10-08; 8:45 am]

BILLING CODE 6325-39-P